CORPORATION FOR NATIONAL AND COMMUNITY SERVICE

45 CFR Parts 1201, 2505, 2507, and 2508

RIN 3045-AA64

Change of Address for the Corporation for National and Community Service (CNCS)

AGENCY: Corporation for National and Community Service.

ACTION: Final rule.

SUMMARY: The Corporation for National and Community Service (CNCS) is updating its regulations to reflect a change of address. CNCS headquarters moved to 250 E Street SW., Washington, DC 20525, effective January 25, 2016.

DATES: This rule is effective March 10, 2016.

FOR FURTHER INFORMATION CONTACT: Phyllis Green, Executive Assistant, Office of General Counsel, at 202-606-6709 or email to pgreen@cns.gov. Individuals who use a telecommunications device for the deaf (TTY-TDD) may call 1-800-833-3722 between 8:00 a.m. and 8:00 p.m. Eastern Time, Monday through Friday.

SUPPLEMENTARY INFORMATION:

I. Background

The Corporation for National and Community Service (CNCS) is a federal agency that engages more than five million Americans in service through its AmeriCorps, Senior Corps, Social Innovation Fund, and Volunteer Generation Fund programs, and leads the President's national call to service initiative, United We Serve. For more information, visit www.nationalservice.gov.

On January 25, 2016, CNCS headquarters relocated to 250 E Street, SW., Washington, DC 20525. This rule updates CNCS's physical and internet address where it is referenced in CNCS regulations.

II. Procedural Requirements

A. Determination To Issue Final Rule Effective in Less Than 30 Days

CNCS has determined that the public notice and comment provisions of the Administrative Procedure Act, 5 U.S.C. 553(b), do not apply to this rulemaking. Because updating the agency's address is a matter of “agency organization, procedure, and practice,” it is exempt from notice and comment rulemaking under 5 U.S.C. 553(b)(3)(A). CNCS has also determined that there is good cause to waive the requirement of publication 30 days in advance of the rule's effective date under 5 U.S.C. 553(d)(3). The public benefits from having the regulations reflect the correct physical and internet address of CNCS so that public has the correct information on how to contact the agency. The use of the incorrect address could result in correspondence not reaching the agency.

B. Review Under Procedural Statutes and Executive Orders

CNCS has determined that making changes to is regulations to reflect the correct address of CNCS headquarters and the agency Web site does not trigger any requirements under the procedural statutes and Executive Orders that govern rulemaking procedures.

III. Effective Date

This rule is effective March 10, 2016.

List of Subjects

45 CFR Part 1201

Administrative practice and procedure, Courts, Freedom of information.

45 CFR Part 2505

Sunshine Act.

45 CFR Part 2507

Freedom of information.

45 CFR Part 2508

Privacy.

For the reasons discussed in the preamble, under the authority of 42 U.S.C. 12651c(c), the Corporation for National and Community Service amends chapters XII and XXV, title 45 of the Code of Federal Regulations as follows:

PART 1201—PRODUCTION OR DISCLOSURE OF OFFICIAL INFORMATION IN RESPONSE TO COURT ORDERS, SUBPOENAS, NOTICES OF DEPOSITIONS, REQUESTS FOR ADMISSIONS, INTERROGATORIES, OR IN CONNECTION WITH FEDERAL OR STATE LITIGATION

1. The authority citation for part 1201 continues to read as follows:

Authority: 42 U.S.C. 12501 et seq.

2. In § 1201.3, revise the second sentence of paragraph (a) to read as follows:

§ 1201.3 Service of summonses and complaints.

(a) * * * All such documents should be delivered or addressed to General Counsel, Corporation for National and Community Service, 250 E Street SW., Washington, DC 20525.

* * * * *

PART 2505—RULES IMPLEMENTING THE GOVERNMENT IN THE SUNSHINE ACT

3. The authority citation for part 2505 continues to read as follows:

Authority: 5 U.S.C. 552b; 42 U.S.C. 12651c(c).

4. In § 2505.5, revise the second sentence of paragraph (b) to read as follows:

§ 2505.5 What are the procedures for closing a meeting, withholding information, and responding to requests by affected persons to close a meeting?

* * * * *

(b) * * * You should submit your request to the Corporation for National and Community Service, Office of the General Counsel, 250 E Street SW., Washington, DC 20525. * * *

* * * * *

PART 2507—PROCEDURES FOR DISCLOSURE OF RECORDS UNDER THE FREEDOM OF INFORMATION ACT

5. The authority citation for part 2507 continues to read as follows:

Authority: 42 U.S.C. 12501 et seq.

6. In § 2507.3, revise paragraph (f) to read as follows:

§ 2507.3 What types of records are available for disclosure to the public?

* * * * *

(f) These records will be made available for public inspection and copying in the Corporation's reading room located at the Corporation for National and Community Service, 250 E Street SW., Washington, DC 20525, during the hours of 9:30 a.m. to 4:00 p.m., Monday through Friday, except on official holidays.

* * * * *

7. In § 2507.4, revise the first sentence in paragraph (a)(1) and paragraph (a)(2) to read as follows:

§ 2507.4 How are requests for records made?

(a) How made and addressed. (1) Requests for Corporation records under the Act must be made in writing, and can be mailed, hand-delivered, or received by facsimile, to the FOIA Officer, Corporation for National and Community Service, 250 E Street SW., Washington, DC 20525. * * *

(2) Corporation records that are available in the Corporation's reading room will also be made available for public access through the Corporation's “electronic reading room” internet site. The following address is the Corporation's Internet Web site: http://www.nationalservice.gov.

* * * * *

PART 2508—IMPLEMENTATION OF THE PRIVACY ACT OF 1974

8. The authority citation for part 2508 continues to read as follows:

Authority: 5 U.S.C. 552a; 42 U.S.C. 12501 et seq.; 42 U.S.C. 4950 et seq.

9. In § 2508.6, revise paragraph (f) to read as follows:

§ 2508.6 When will the Corporation publish a notice for new routine uses of information in its system of records?

* * * * *

(f) The categories of recipients of such use. In the event of any request for an addition to the routine uses of the systems which the Corporation maintains, such request may be sent to the following office: Office of the General Counsel, Corporation for National and Community Service, 250 E Street SW., Washington, DC 20525.

10. In § 2508.13, revise paragraph (a) to read as follows:

§ 2508.13 What are the procedures for acquiring access to Corporation records by an individual about whom a record is maintained?

(a) Any request for access to records from any individual about whom a record is maintained will be addressed to the Corporation for National and Community Service, Office of the General Counsel, Attn: Privacy Act Officer, 250 E Street SW., Washington, DC 20525, or delivered in person during regular business hours, whereupon access to his or her record, or to any information contained therein, if determined to be releasable, shall be provided.

* * * * *

11. In § 2508.15, revise the first sentence of paragraph (b)(1) to read as follows:

§ 2508.15 What are the procedures for requesting inspection of, amendment or correction to, or appeal of an individual's records maintained by the Corporation other than that individual's official personnel file?

* * * * *

(b) * * *

(1) In the event an individual, after examination of his or her record, desires to request an amendment or correction of such records, the request must be submitted in writing and addressed to the Corporation for National and Community Service, Office of the General Counsel, Attn: Privacy Act Officer, 250 E Street SW., Washington, DC 20525. * * *

* * * * *

12. In § 2508.16, revise the first sentence of paragraph (a) to read as follows:

§ 2508.16 What are the procedures for filing an appeal for refusal to amend or correct records?

(a) In the event an individual desires to appeal any refusal to correct or amend records, he or she may do so by addressing, in writing, such appeal to the Corporation for National and Community Service, Office of the Chief Operating Officer, Attn: Appeal Officer, 250 E Street SW., Washington, DC 20525. * * *

* * * * *

Dated: March 4, 2016.
Jeremy Joseph,
General Counsel.

[FR Doc. 2016-05347 Filed 3-9-16; 8:45 am]

BILLING CODE 6050-28-P